DEPARTMENT OF THE TREASURY

Office of Foreign Assets Control

Designation of One (1) Individual and Four (4) Entities Pursuant to Executive Order 13628 of October 9, 2012

AGENCY: Office of Foreign Assets Control, Treasury.

ACTION: Notice.

SUMMARY: The Treasury Department's Office of Foreign Assets Control (“OFAC”) is publishing the name of one (1) individual and four (4) entities designated on February 6, 2013, as persons whose property and interests in property are blocked pursuant to Executive Order 13628 of October 9, 2012, “Authorizing the Implementation of Certain Sanctions Set Forth in the Iran Threat Reduction and Syria Human Rights Act of 2012 and Additional Sanctions With Respect to Iran.”

DATES: The designation by the Director of OFAC of the one (1) individual and four (4) entities identified in this notice, pursuant to Executive Order 13628 of October 9, 2012, is effective February 6, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on demand service tel.: (202) 622-0077.

Background

On October 9, 2012, the President issued Executive Order 13628, “Authorizing the Implementation of Certain Sanctions Set Forth in the Iran Threat Reduction and Syria Human Rights Act of 2012 and Additional Sanctions With Respect to Iran” (the “Order”), pursuant to the International Emergency Economic Powers Act (50 U.S.C. 1701 et seq.), the National Emergencies Act (50 U.S.C. 1601 et seq.), the Iran Sanctions Act of 1996 (Pub. L. 104-172) (50 U.S.C. 1701 note), as amended, the Comprehensive Iran Sanctions, Accountability, and Divestment Act of 2010 (Pub. L. 111-195) (22 U.S.C. 8501 et seq.), as amended, the Iran Threat Reduction and Syria Human Rights Act of 2012 (Pub. L. 112-158), Section 212(f) of the Immigration and Nationality Act of 1952, as amended (8 U.S.C. 1182(f)), and Section 301 of title 3, United States Code.

Section 3 of the Order blocks, with certain exceptions, all property and interests in property that are in the United States, that come within the United States, or that are or come within the possession or control of any United States person, of persons determined by the Secretary of the Treasury, in consultation with, or at the recommendation of, the Secretary of State, to satisfy certain criteria set forth in the Order.

On February 6, 2013, the Director of OFAC, in consultation with or at the recommendation of, the Secretary of State, designated, pursuant to Section 3 of the Order, one (1) individual and four (4) entities whose names have been added to the list of Specially Designated Nationals and Blocked Persons and whose property and interests in property are blocked. The listing for these individuals and entities is below.

Individuals

1. ZARGHAMI, Ezzatollah (a.k.a. ZARGHAMI, Ezatollah); DOB 1959; POB Dezful, Khuzentan Province, Iran; Title Director, Islamic Republic of Iran Broadcasting (individual) [IRAN-TRA].

Entities

1. IRANIAN COMMUNICATIONS REGULATORY AUTHORITY (a.k.a. “SAZMAN-E TANZIM MOGHARARAT”), Ministry of Information and Communications Technology, P.O. Box 15598-4415, 1631713761, Tehran, Iran; Web site http://www.cra.ir [IRAN-TRA].

2. IRANIAN CYBER POLICE (a.k.a. FATA POLICE); Web site http://www.cyberpolice.ir [IRAN-TRA].

3. ISLAMIC REPUBLIC OF IRAN BROADCASTING (a.k.a. IRIB; a.k.a. ISLAMIC REPUBLIC OF IRAN BROADCASTING ORG.; a.k.a. NATIONAL IRANIAN RADIO AND TELEVISION), Jamejam Street, Valiasr Avenue, Tehran, Iran; Satellite Department, IRIB, Jame Jam St., Tehran, Iran; Department of IT-IRIB, P.O. Box 19395-333, Jaame Jam. St, Valiasr Ave, Tehran, Iran; IT Department, Fanni Building No 3, Jame jam, Valiasr St., Tehran, Iran; 200 Mosaddegh Avenue, Jaame Jam Street, Vali Asr Ave, P.O. Box 1333, Tehran 193933333, Iran; Fatemi Building, P.O. Box 15875/4333, Tehran, Iran; Web site www.irib.ir; alt. Web site http://iransat.irib.ir; Registration ID 1792 [IRAN-TRA].

4. IRAN ELECTRONICS INDUSTRIES (a.k.a. IEI; a.k.a. SAIRAN; a.k.a. SANAYE ELECTRONIC IRAN; a.k.a. SASAD IRAN ELECTRONICS INDUSTRIES; a.k.a. SHERKAT SANAYEH ELECTRONICS IRAN), P.O. Box 19575-365, Shahied Langari Street, Noboniad Sq, Pasdaran Ave, Saltanad Abad, Tehran, Iran; P.O. Box 71365-1174, Hossain Abad/Ardakan Road, Shiraz, Iran; Hossein Abad/Ardakan Road, P.O. Box 555, Shiraz 71365/1174, Iran; Shahid Langari Street, Nobonyad Square, Tehran, Iran; Web site www.ieimil.ir; alt. Web site www.ieicorp.com; Business Registration Document # 829 [NPWMD] [IFSR] [IRAN-TRA].

Dated: February 6, 2013.
Adam J. Szubin,
Director, Office of Foreign Assets Control.

[FR Doc. 2013-03552 Filed 2-14-13; 8:45 am]

BILLING CODE 4810-AL-P